DEPARTMENT OF THE INTERIOR

Bureau of Land Management

[LLESM03300.L16100000.DU0000]

Notice of Intent To Amend the Land Use Plans for the BLM-Administered Public Lands in Wisconsin and Minnesota and Prepare an Associated Environmental Assessment

AGENCY: Bureau of Land Management, Interior.

ACTION: Notice of intent.

SUMMARY: In compliance with the National Environmental Policy Act of 1969, as amended (NEPA), and the Federal Land Policy and Management Act of 1976 (FLPMA), as amended, the Bureau of Land Management (BLM) Northeastern States District, Milwaukee, Wisconsin, intends to prepare amendments for the Wisconsin Resource Management Plan (1985), the Minnesota Management Framework Plan (1982), and the Lake Vermilion Public Islands Coordinated Resource Management Plan (1993) (collectively referred to as Land Use Plans) and an associated Environmental Assessment (EA) for the BLM-administered public lands in Wisconsin and Minnesota, and by this notice is announcing the beginning of the scoping process to solicit public comments and identify issues.

DATES: This notice initiates the public scoping process for the Land Use Plan amendments with an associated EA. Comments on issues may be submitted in writing until July 8, 2016. The BLM will hold public meetings pertaining to this proposed Land Use Plan amendment in one community in Minnesota (city of Virginia) and in three Wisconsin communities (cities of Stevens Point, Eau Claire, and Milwaukee). The date(s) and location(s) of any scoping meetings will be announced at least 15 days in advance through local news media, newspapers, and the BLM Web site at: https://www.blm.gov/epl-front-office/eplanning/lup/lup_register.do. In order to be included in the analysis, all comments must be received prior to the close of the 30-day scoping period or 15 days after the last public meeting, whichever is later. We will provide additional opportunities for public participation as appropriate.

ADDRESSES: You may submit comments on issues and planning criteria related to the Land Use Plan Amendments and Associated EA by any of the following methods:

• Internet: https://www.blm.gov/epl-front-office/eplanning/lup/lup_register.do.

• Email: blm_es_comments@blm.gov.

• Fax: 414-297-4409.

• Mail: Bureau of Land Management, Northeastern States District, 626 E. Wisconsin Avenue, Suite 200, Milwaukee, WI 53202.

Documents pertinent to this proposal may be examined at the Northeastern States District, 626 East Wisconsin Avenue, Suite 200, Milwaukee, Wisconsin 53202.

FOR FURTHER INFORMATION CONTACT: Kurt Wadzinski, telephone 414-297-4408; address 626 East Wisconsin Avenue, Suite 200, Milwaukee, Wisconsin 53202; email kwadzins@blm.gov. Contact Mr. Wadzinski to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Northeastern States District, Milwaukee, Wisconsin, intends to prepare Land Use Plan amendments with an associated EA for the BLM-administered public lands in Wisconsin and Minnesota. This notice announces the beginning of the scoping process and invites public input on issues and planning criteria. The planning area is located in Wisconsin and Minnesota and encompasses approximately 3,636 acres of public land, including approximately 350 islands in Wisconsin, 100 islands in Minnesota, 30 upland parcels in Minnesota, and six upland parcels in Wisconsin. The planning area is covered by three Land Use Plans, including the Wisconsin Resource Management Plan (1985), the Minnesota Management Framework Plan (1982), and the Lake Vermilion Public Islands Coordinated Resource Management Plan (CRMP) (1993). An inventory of wilderness characteristics of the public islands in Wisconsin was published in 1981, and concluded that the public islands in Wisconsin do not meet the criteria for designation as wilderness. Amendments are needed to facilitate a more proactive management approach, in light of new information on resources that are present on the lands in question, notably the presence of cultural resources and sensitive wildlife habitats and plant communities. The purpose of the public scoping process is to determine relevant issues that will influence the scope of the environmental analysis, including alternatives, and guide the planning process. Preliminary issues for the plan amendment area have been identified by BLM personnel, Federal, State, and local agencies, and other stakeholders. The issues include the following: (a) Degradation of cultural resources; (b) Recreation site degradation from litter, construction of unauthorized structures, and cutting of live trees for campfires; (c) Conflicts between recreational users and managers of nearby, regulated recreation sites under different jurisdictions; and (d) Spread of non-native, invasive plant species. Preliminary planning criteria are as follows: (a) The Land Use Plans will be amended in compliance with FLPMA, NEPA, the Shipstead-Nolan-Newton Act of 1930, and all other relevant Federal laws, executive orders, and BLM policies; (b) Where planning decisions are still valid, those decisions may remain unchanged and incorporated into the new Land Use Plans; (c) The Land Use Plans will recognize valid, existing rights; (d) Native American tribal consultations will be conducted in accordance with policy and Tribal concerns will be given due consideration; (e) The amended Land Use Plans (not including the Lake Vermilion CRMP) will provide disposal criteria that balance the public benefits of BLM retention against the management efficiency of land disposal; (f) The amended Land Use Plans will provide policy for managing recreational use on BLM-administered public lands; and (g) The amended Land Use Plans will provide a general description of BLM management activities pertaining to vegetation, prescribed fire, wildlife, cultural resources, and other resources. You may submit comments on issues and planning criteria in writing to the BLM at any public scoping meeting, or you may submit them to the BLM using one of the methods listed in the ADDRESSES section above. To be most helpful, you should submit comments by the close of the 30-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: outdoor recreation, cultural resources, forestry, vegetation, wildlife and fisheries, lands and realty, hydrology, soils, air quality, fire management, sociology and economics.

Authority: 40 CFR 1501.7 and 43 CFR 1610.2

Dean Gettinger,
District Manager, Northeastern States District.

[FR Doc. 2016-13557 Filed 6-7-16; 8:45 am]

BILLING CODE 4310-GJ-P